DEPARTMENT OF ENERGY

Federal Energy Regulatory Commission

[Docket No. AD21-8-000]

Technical Conference on Reassessment of the Electric Quarterly Report Requirements; Second Supplemental Notice of Technical Conference

On January 8, 2021, the Federal Energy Regulatory Commission (Commission) issued a notice that its staff will hold a technical conference related to the reassessment of the Electric Quarterly Report (EQR) requirements on February 24, 2021. On January 13, 2021, the Commission issued a supplemental notice stating that all future meeting materials will be issued in Docket No. AD21-8-000. The technical conference will take place from 10:00 a.m. to 5:00 p.m. Eastern Time. All interested persons are invited to participate. Access to the meeting will be available via WebEx.

Commission staff is hereby supplementing the January 8, 2021 notice with the agenda, including sample discussion topics. During the conference, Commission staff, EQR filers, and EQR users will discuss potential changes to the current EQR data fields. This technical conference is the first in a series of conferences related to the reassessment of the EQR requirements.

Information for the technical conference, including a link to the webcast, will be posted prior to the event on the meeting event page on the Commission's website, available at: https://www.ferc.gov/news-events/events/technical-conference-regarding-reassessment-electric-quarterly-report. The presentation slides will be posted to the website prior to the conference. Any interested person that wishes to participate in the conference is required to register through the WebEx link.

Commission conferences are accessible under section 508 of the Rehabilitation Act of 1973. For accessibility accommodations, please send an email to accessibility@ferc.gov or call toll free 1-866-208-3372 (voice) or 202-208-1659 (TTY).

For more information about the technical conference, please contact Jeff Sanders of the Commission's Office of Enforcement at (202) 502-6455, or send an email to EQR@ferc.gov.

Dated: February 3, 2021.
Nathaniel J. Davis, Sr.,
Deputy Secretary.

AGENDA

EQR Technical Conference

February 24, 2021

10:00 a.m.-10:15 a.m. Introduction and Logistics

• Agenda Review

• Meeting Format for Comments and Questions

• Project Overview

10:15 a.m.-10:25 a.m. Identification Data Fields (#2, 4-12)

10:25 a.m.-11:25 a.m. Proposed Changes to Location and Balancing Authority Fields (Contract Fields #39-42 and Transaction Fields #57-58)

• What challenges do filers currently have with reporting these fields?

• Do filiers have suggested improvements to these fields?

• Do data users use these fields for analysis? If so, how?

11:25 a.m.-11:40 a.m. Break

11:40 a.m.-12:40 p.m. Date Fields (Contract Fields #21-24)

• What are the challenges filers/data users have with these fields?

• What changes would filers/data users like to see with these fields?

• How often have filers/data users seen a scenario where a contract does not have a contract termination date and is not considered to be an “evergreen” contract?

• How often are contracts novated (i.e., sold or transferred to another party with a different CID)?

12:40 p.m.-1:40 p.m. Lunch

1:40 p.m.-2:45 p.m. Product Names (Contract Field #31 and Transaction Field #63)

• What products are captured when reporting “Bundled” in the Rate Description field?

• What are the challenges reporting multiple products with an “all-in” price?

• What products are captured when filers report “Grandfathered Bundled” and “Requirements Service” as Product Names?

2:45 p.m.-3:00 p.m. Break

3:00 p.m.-3:25 p.m. Renewable Energy Certificates (REC)

• Are filers able to separate out the “REC” portion of the price from the Energy portion of a sale?

3:25 p.m.-3:45 p.m. Potential Ramping Product

• Do filers/data users have thoughts about adding “Ramping” as a new Product Name in Appendix A?

3:45 p.m.-4:15 p.m. Potential Additional Products

• What products are being reported as “Other” and a blankRate Description field?

• Are there any additional products that should be added to the Product Name list in Appendix A?

4:15 p.m.-5:00 p.m. Closing Remarks

[FR Doc. 2021-02629 Filed 2-8-21; 8:45 am]

BILLING CODE 6717-01-P